ENVIRONMENTAL PROTECTION AGENCY

[FRL-6983-9]

Agency Information Collection Activities: Proposed Collection; Comment Request; Reporting and Recordkeeping Requirements Under EPA's Natural Gas STAR Program

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Reporting and Recordkeeping Requirements Under EPA's Natural Gas STAR Program, EPA ICR Number 1736.02, OMB Control Number 2060-0328, expiring on 9/30/2001. Before submitting the ICR to OMB for review and approval, EPA is soliciting comments on specific aspects of the proposed information collection as described below.

DATES: Comments must be submitted on or before July 1, 2001.

ADDRESSES: 1200 Pennsylvania Ave., NW., MC 6202J, Washington, DC 20460. Interested persons may obtain a copy of the ICR without charge by writing to the above address or downloading it off the Internet at http://www.epa.gov/icr and refer to EPA ICR No. 1736.02.

FOR FURTHER INFORMATION CONTACT: Paul Gunning at EPA's Natural Gas STAR Program by phone at (202) 564-9736, by email at gunning.paul@epa.gov, or by fax at (202) 565-2254.

SUPPLEMENTARY INFORMATION: Affected Entities: Entities potentially affected by this action are those which produce, process, transport, and distribute natural gas.

Title: “Reporting and Recordkeeping Requirements Under EPA's Natural Gas STAR Program”, EPA ICR Number 1736.02, OMB Control Number 2060-0328, expiring on 9/30/2001.

Abstract: Natural Gas STAR is an EPA-sponsored, voluntary program that encourages natural gas companies to adopt cost effective methods for reducing methane emissions. Natural Gas STAR Partners agree to implement cost-effective Best Management Practices, which will save participants money and improve environmental quality. EPA needs to collect information to establish program participation and to obtain general information on new Natural Gas STAR Partners. EPA also uses the information collection to evaluate a Partner's progress and performance, assess overall program results, and develop technical guidance documents for the benefit of the industry. Information collection is accomplished through the use of an annual reporting process that allows companies to report their accomplishments in either a traditional hard-copy format or electronically. Participation in Natural Gas STAR is voluntary. Natural Gas STAR Partners may designate information submitted under this ICR as confidential business information. EPA will treat all such information as confidential business information and will not make the company or agency-specific information collected under this ICR available to the general public. An agency may not conduct or sponsor, and a person is not required to respond to, a collection of information unless it displays a currently valid OMB control number. The OMB control numbers for EPA's regulations are listed in 40 CFR part 9 and 48 CFR chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The annual public reporting and recordkeeping burden for this collection of information is estimated to average 47 hours per facility. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: 90.

Estimated Number of Respondents: 90.

Frequency of Response: varies.

Estimated Total Annual Hour Burden: 4,230 hours.

Estimated Total Annualized Cost Burden: $310,002.

Dated: May 11, 2001.
Kathleen Hogan,
Director, Climate Protection Partnership Division.

[FR Doc. 01-13419 Filed 5-25-01; 8:45 am]

BILLING CODE 6560-50-U